SMALL BUSINESS ADMINISTRATION

[Disaster Declaration #12786 and #12787]

Vermont Disaster Number VT-00022

AGENCY: U.S. Small Business Administration.

ACTION: Amendment 1.

SUMMARY: This is an amendment of the Presidential declaration of a major disaster for Public Assistance Only for the State of Vermont (FEMA-4022-DR), dated 09/01/2011.

Incident: Tropical Storm Irene

Incident Period: 08/27/2011 and continuing.

DATES: Effective Date: 09/02/2011.

Physical Loan Application Deadline Date: 10/31/2011.

Economic Injury (EIDL) Loan. Application Deadline Date: 06/01/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Vermont, dated 09/01/2011, is hereby amended to reestablish the incident period for this disaster as beginning 08/27/2011 and continuing.

All other information in the original declaration remains unchanged.

(Catalog of Federal Domestic Assistance Numbers 59002 and 59008)

James E. Rivera,
Associate Administrator for Disaster Assistance.

[FR Doc. 2011-23574 Filed 9-13-11; 8:45 am]

BILLING CODE 8025-01-P